DEPARTMENT OF COMMERCE

National Oceanic and Atmospheric Administration

[RTID 0648-XA007]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, Wednesday, and Thursday, January 28, 29, and 30, 2020, beginning at 9 a.m. on January 28 and 8:30 a.m. on January 29 and 30.

ADDRESSES: The meeting will be held at the Portsmouth Harbor Events and Conference Center, 100 Deer Street at 22 Portwalk Place, Portsmouth, NH 03801; telephone: (603) 422-6114; online at https://www.portsmouthharborevents.com.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, January 28, 2020

After introductions and brief announcements, the meeting will begin with reports from the Council Chairman and Executive Director, NMFS's Regional Administrator for the Greater Atlantic Regional Fisheries Office (GARFO), liaisons from the Northeast Fisheries Science Center (NEFSC) and Mid-Atlantic Fishery Management Council, staff from the Atlantic States Marine Fisheries Commission (ASMFC), and representatives from NOAA General Counsel, NOAA's Office of Law Enforcement, and the U.S. Coast Guard. The Council then will receive two updates on offshore energy projects in the Northeast—one from the Bureau of Ocean Energy Management and the other from the Habitat Committee. The Council also will receive other habitat updates and develop comments on a Great South Channel-related Exempted Fishing Permit (EFP) if the notice is available prior to the meeting. Next, representatives from the Northeast Regional Ocean Council and the Responsible Offshore Development Alliance will provide an overview of upcoming work on the Northeast Ocean Data Portal using industry input.

Following the lunch break, the Council will hear from Dr. Michael Rubino, senior advisor for seafood strategy at NOAA Fisheries, about his role within the agency, as well as seafood market development options. The Council then will view a video highlighting the U.S. scallop delegation's June 2019 visit to Hokkaido, Japan to learn about seed-sowing practices used in Japanese scallop aquaculture. The delegation included representatives from the scallop industry, NMFS, academia, and Council staff. Next, the Council will discuss and take final action on a Commercial eVTR Omnibus Framework, which was developed jointly with the Mid-Atlantic Fishery Management Council. The framework proposes to require that vessel trip reports (VTRs) be submitted electronically as eVTRs instead of on paper for all commercial species managed by both Councils. Next, the Council will receive an overview of new South Atlantic electronic vessel reporting requirements for for-hire charter and headboat vessels with South Atlantic permits. The Council will close out the day with a report on the November 2019 annual meeting of the International Commission for the Conservation of Atlantic Tunas (ICCAT). The Council also will hear comments from the Advisory Committee to the U.S. Section to ICCAT.

Wednesday, January 29, 2020

The Council will begin the day with a presentation from MIT Sea Grant on the use of sociocultural information in the NEFMC process and discuss recent findings. Next, the Scientific and Statistical Committee (SSC) will provide the Council with acceptable biological catch (ABC) recommendations for four groundfish stocks that were remanded for further review as a result of the Council's December 2019 meeting. The ABC recommendations will be for American plaice, Gulf of Maine haddock, Georges Bank haddock, and Atlantic pollock for fishing years 2020-22. Following the SSC report, members of the public will have the opportunity to speak during an open comment period on issues that relate to Council business but are not included on the published agenda for this meeting. The Council asks the public to limit remarks to 3-5 minutes. After that, the Groundfish Committee will begin its report, which will run for the remainder of the day with a lunch break scheduled partway through. The report will cover two items. First, the Council will develop recommendations for submission to GARFO on fishing year 2020 recreational measures for Gulf of Maine cod and Gulf of Maine haddock. Second, the Council will review, discuss, and approve the Draft Environmental Impact Statement (DEIS) for Monitoring Amendment 23 and select preliminary preferred alternatives. The DEIS will contain the full range of alternatives for upcoming public hearings. At the conclusion of this discussion, the Council will adjourn for the day.

Thursday, January 30, 2020

The third day of the meeting will begin with a closed session during which the Council will consult on SSC appointments for 2020-22 and review personnel issues. The meeting then will be open to the public and begin with a presentation on the final NEFSC/GARFO Regional Strategic Plan for 2020-23, followed by an overview of the accompanying annual implementation plan. The Northeast Fisheries Science Center then will provide a presentation on its annual planning process and explain how the center uses the New England Fishery Management Council's research priorities. Next, the Council will receive an update on Congressional activities and discuss any pending legislation. The Small-Mesh Multispecies (Whiting) Committee report will follow. The Council will approve the range of alternatives for an action that is under development to rebuild southern red hake.

Following the lunch break, the Council will discuss Atlantic herring issues. The Council will initiate Framework Adjustment 8 to the Atlantic Herring Fishery Management Plan, which will contain fishing year 2021-23 specifications and consider adjusting herring measures that potentially inhibit the Atlantic mackerel fishery from achieving optimum yield. Next, the Council will receive an update from NMFS on the Omnibus Industry-Funded Monitoring (IFM) Amendment and its associated herring measures. Finally, the Council will close out the meeting with “other business.”

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Authority: 16 U.S.C. 1801 et seq.

Dated: January 6, 2020.
Tracey L. Thompson,
Acting Deputy Director, Office of Sustainable Fisheries, National Marine Fisheries Service.

[FR Doc. 2020-00186 Filed 1-9-20; 8:45 am]

BILLING CODE 3510-22-P